DEPARTMENT OF AGRICULTURE

Submission for OMB Review; Comment Request; Correction

June 23, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; and (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal & Plant Health Inspection Service

Title: National Poultry Improvement Plan (NPIP).

OMB Control Number: 0579-0007.

Summary of Collection: The National Poultry Improvement Plan (NPIP) is a voluntary Federal-State-industry mechanism for controlling certain poultry diseases and for improving poultry flocks and products through disease control techniques. The National Turkey Improvement Plan was combined with the NPIP in 1970 to create the NPIP, as it now exists. Emu, rhea, ostrich, and cassowary breeding flocks are also allowed participation in the Plan. The effective implementation of the NPIP necessitates the use of several information collection activities, including sentinel bird identification, as well as the creation and submission of flock testing reports, sales reports, breeding flock participation summaries, hatchery participation summaries, salmonella investigation reports, salmonella serotyping requests, and small chick order printouts. Authority for this program is contained in the U.S. Department of Agriculture Organic Act of 1944, as amended (7 U.S.C. 429). The cooperative work is carried out through a Memorandum of Understanding with the participating States.

Need and Use of the Information: Information is collected from various types of poultry breeders and flock owners to determine the number of eggs hatched and sold as well as to report outbreaks of diseases. This information allows APHIS officials to track, control, and prevent many types of poultry diseases. APHIS will use several forms to collect the needed information.

Description of Respondents: State, Local or Tribal Government; Federal Government; Farms.

Number of Respondents: 12,232.

Frequency of Responses: Recordkeeping; Reporting: On occasion.

Total Burden Hours: 103,581.

Animal & Plant Health Inspection Service

Title: Animal Welfare.

OMB Control Number: 0579-0036.

Summary of Collection: The Laboratory Animal Welfare Act (AWA) (Pub. L. 89-544) enacted August 24, 1966, and as amended, required the U.S. Department of Agriculture (USDA), to regulate the humane care and handling of dogs, cats, guinea pigs, hamsters, rabbits, and nonhuman primates. This legislation was the result of extensive demand by organized animal welfare groups and private citizens requesting a Federal law covering the transportation, care, and handling of laboratory animals. The Animal and Plant Health Inspection Service (APHIS), Regulatory Enforcement and Animal Care (AC) has the responsibility to enforce the Animal Welfare Act (7 U.S.C. 2131-2156) and the provisions of 9 CFR, Subchapter A, which implements the Animal Welfare Act. The purpose of the AWA is to ensure that animal use in research facilities or exhibition purposes are provided humane care and treatment, to ensure humane treatment of the animal during transportation in commerce, and to protect the owners of animals from the theft of their animals by preventing the sale or use of animals which have been stolen. APHIS will collect information using several forms.

Need and Use of the Information: APHIS will collect health certificates, program of veterinary care, application for license and record of acquisition, disposition and transportation of animals. The information is used to ensure those dealers, exhibitors, research facilities, carriers, etc., are in compliance with the Animal Welfare Act and regulations and standards promulgated under this authority of the Act.

Description of Respondents: Business or other for-profit; Individuals or households.

Number of Respondents: 7,450.

Frequency of Responses: Recordkeeping; Reporting: On occasion.

Total Burden Hours: 87,252.

Animal and Plant Health Inspection Service

Title: Lacey Act Declaration Requirements; Plants and Plant Products.

OMB Control Number: 0579-0349.

Summary of Collection: The Lacey Act, enacted in 1900 and significantly amended in 1988, is the United States' oldest Wildlife Protection Statute. The Act combats trafficking in “illegal” wildlife, fish, or plants. The Food, Conservation and Energy Act of 2008, which took effect May 22, 2008, amended the Lacey Act by expanding its protection to a broader range of plants and plant products (Section 8204, Prevention of Illegal Logging Practices).

Need and Use of the Information: Under the amended Lacey Act, importers are required to submit a declaration form (PPQ-505) for certain plants and plant products. The declaration must contain, among other things, the scientific name of the plant, value of the importation, quantity of the plant, and name of the country from which the plant was harvested. If species varies or is unknown, importers will have to declare the name of each species that may have been used to produce the product. Failure to collect this information would cause significant losses for importers of plants and plant products resulting in serious economic consequences to the U.S. industries.

Description of Respondents: Business or other for-profit.

Number of Respondents: 279,398.

Frequency of Responses: Reporting: On occasion.

Total Burden Hours: 5,029,164.

Ruth Brown,
Departmental Information Collection Clearance Officer.

[FR Doc. E9-15138 Filed 6-25-09; 8:45 am]

BILLING CODE 3410-34-P